DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 57282-57283 dated September 20, 2010).

This notice reflects organizational changes in the Health Resources and Services Administration. Specifically, this notice updates the functional statement for the Bureau of Clinician Recruitment and Service (RU) to reduce fragmentation and overlap and establish an increased emphasis on policy and program development, external communication and outreach, customer service and system and analytical support.

Chapter RU—Bureau of Clinician Recruitment and Service

Section RU-10, Organization

Delete in its entirety and replace with the following:

The Office of the Associate Administrator (RU) is headed by the Associate Administrator, Bureau of Clinician Recruitment and Service (BCRS), who reports directly to the Administrator, Health Resources and Services Administration. BCRS includes the following components:

(1) Office of the Associate Administrator (RU);

(2) Office of Legal and Compliance (RU1);

(3) Division of National Health Service Corps (RU5);

(4) Division of Nursing and Public Health (RU6);

(5) Division of External Affairs (RU7);

(6) Office of Policy and Program Development (RU8);

(7) Division of Program Operations (RU9);

(8) Division of Regional Operations (RU10); and

(9) Office of Business Operations (RU11).

Section RU-20, Functions

(1) Delete the functional statement for the Bureau of Clinician Recruitment and Service (RU) and replace in its entirety.

Office of the Associate Administrator (RU)

Provides overall leadership, direction, coordination, and planning in support of Bureau of Clinician Recruitment and Service (BCRS) programs that are designed to improve the health of the Nation's underserved communities and vulnerable populations by coordinating the recruitment and retention of caring health professionals in the healthcare system and supporting communities' efforts to build more integrated and sustainable systems of care. Specifically: (1) Establishes program goals, objectives and priorities, and provides oversight as to their execution; (2) plans, directs, coordinates and evaluates Bureau-wide management activities; (3) maintains effective relationships within HRSA and with other Department of Health and Human Services (HHS) organizations, other Federal agencies, State and local governments, and other public and private organizations concerned with improving the health status of the Nation's underserved communities and vulnerable populations by recruiting and retaining health care clinicians into service in areas of greatest need; (4) plans, directs and coordinates Bureau-wide administrative management activities, i.e., budget, personnel, procurements, delegations of authority, and has responsibilities related to the awarding of BCRS funds; and (5) oversees the development of BCRS program policies.

Office of Legal and Compliance (RU1)

Serves as the focal point for service obligation issue resolution and quality assurance for the Bureau's programs. Specifically: (1) Analyzes, administers and manages procedures for the BCRS portfolio of scholarship and loan repayment participants who have breached their service obligation, requested a waiver or suspension, and/or are in default and have requested to serve under a Forbearance, Judgment or Settlement Agreement; (2) reviews default recommendations, determines the action of default, and initiates and monitors procedures for default debt collection; (3) provides programmatic information to Agency officials, the Office of the General Counsel, the Office of Inspector General, Program Support Center, and the Department of Justice for default debt collection, trials, bankruptcy hearings, and other activities; (4) reviews requests and makes determinations regarding scholarship and loan repayment participants' eligibility for a suspension or waiver of their service or default debt obligation; (5) implements policies and procedures in conjunction with default reduction activities, including return to service arrangements and other actions to maximize compliance with scholarship and loan repayment service obligations; and (6) serves as the BCRS quality assurance function.

Division of National Health Service Corps (RU5)

Serves as the point of contact for responding to inquiries, disseminating program information, providing technical assistance, and processing applications and awards pertaining to National Health Service Corps (NHSC) scholarship and loan repayment programs and site approvals. Specifically: (1) Reviews, ranks and selects participants for the scholarship and loan repayment programs; (2) verifies and processes loan and lender related payments in prescribed manner and maintains current information on scholarship and loan repayment applications and awards through automated BCRS information systems; (3) provides oversight, processing and coordination of reviews of NHSC site applications and vacancy management activities; (4) manages scholar in-school activities; (5) facilitates scholar placement; and (6) provides oversight, processing and coordination for the Ready Responder program.

Division of Nursing and Public Health (RU6)

Serves as the point of contact for responding to inquiries, disseminating program information, providing technical assistance, and processing applications and awards pertaining to work force related scholarship and loan repayment programs. Specifically: (1) Reviews, ranks and selects participants for the scholarship and loan repayment programs; (2) verifies and processes loan and lender related payments in prescribed manner and maintains current information on scholarship and loan repayment applications and awards through automated BCRS information systems; (3) manages scholar in-school activities; and (4) facilitates scholar placement.

Division of External Affairs (RU7)

Serves as the focal point for the development of all messaging both internal and external and dissemination of promotional materials, brochures, speeches, and articles. Specifically: (1) Leads, coordinates, and conducts student, clinician and site recruitment, retention and outreach strategies and related activities; (2) coordinates all Bureau conferences and clinician and site training; (3) establishes and manages partner collaboration, NHSC alumni and the State Primary Care Offices (PCOs); (4) performs marketplace analysis; (5) maintains a speaker for the Bureau communicating clinician and site success stories and promotes the Bureau's programs; and (6) maintains responsibility for all communication functions including but not limited to the Bureau Web site, BCRS Call Center and customer service portal, and newsletters.

Office of Policy and Program Development (RU8)

Serves as the focal point for the development of BCRS programs and policies. Specifically: (1) Leads and coordinates the analysis, development and drafting of policy impacting BCRS programs; (2) coordinates program planning and tracking of legislation and other information related to BCRS programs; (3) leads and monitors the development of workforce projections relating to BCRS program; (4) provides oversight, processing and coordination for the J1-visa program; (5) works collaboratively with other components within HRSA and HHS, and with other Federal agencies, State and local governments, and other public and private organizations on issues affecting BCRS programs and policies; (6) performs environmental scanning on issues that affect BCRS programs and assesses the impact of programs on underserved communities; (7) monitors BCRS activities in relation to HRSA's Strategic Plan; (8) develops budget projections and justifications; and (9) serves as the Bureau's focal point for program information.

Division of Program Operations (RU9)

Serves as the organizational focal point for the Bureau's centralized, comprehensive customer service function to support program participants. Provides regular and ongoing communication, technical assistance and support to program participants through the period of obligated service and closeout. Specifically: (1) Manages the staff and daily operations of the Bureau's Call Center and centralized customer service function; (2) initiates contact with and monitors program participants throughout their service; (3) manages clinician support, site transfers, in-service reviews and recommends suspensions, waivers and defaults; (4) manages the 6-month verification process; (5) conducts closeout activities for each program participant and issues completion certificates; and (6) maintains program participants' case files in the Bureau's management information system.

Division of Regional Operations (RU10)

Serves as the regional component of BCRS cutting across all Divisions and working with BCRS programs as a whole. Specifically, the Regional Offices will support BCRS by: (1) Completing NHSC site visits; (2) providing support for recruitment and retention of primary health care providers in Health Professions Shortage Areas; (3) providing ongoing surveillance and analysis of workforce trends and making recommendations on ways to improve the effectiveness of policies and programs; (4) understanding needs of the States as it relates to recruitment and retention of clinicians to improve public health and health care systems; and (5) conducting other activities designed to improve access to quality care, reduce disparities and improve public health in accordance with HRSA authorities and in partnership with related public and private sector organizations.

Office of Business Operations (RU11)

Serves as the focal point for the Bureau's management information systems and reports, data analysis, and automation of business processes to support the recruitment and retention of health professionals in underserved areas and supporting communities' efforts to build more integrated and sustainable systems of care. Specifically: (1) Provides leadership for implementing BCRS systems development, enhancement and administration; (2) designs and implements data systems to assess and improve program performance; (3) provides user support and training to facilitate the effectiveness of the Bureau's information systems; (4) coordinates quality and performance reporting activities; (5) identifies, provides and coordinates assistance to BCRS programs to support performance reporting activities; and (6) continuously identifies, reduces or eliminates suboptimal business processes throughout the Bureau.

Section RU-30, Delegations of Authority

All delegations of authority and re-delegations of authority made to HRSA officials that were in effect immediately prior to this reorganization, and that are consistent with this reorganization, shall continue in effect pending further re-delegation.

This reorganization is upon date of signature.

Dated: September 20, 2010.
Mary K. Wakefield,
Administrator.

[FR Doc. 2010-23892 Filed 9-23-10; 8:45 am]

BILLING CODE 4165-15-P